ENVIRONMENTAL PROTECTION AGENCY

40 CFR Part 300

[FRL-7088-2]

National Oil and Hazardous Substances Pollution Contingency Plan; National Priorities List

AGENCY: Environmental Protection Agency (EPA).

ACTION: Notice of intent to delete the ICG Iselin Railroad Yard Site from the National Priorities List (NPL).

SUMMARY: The United States Environmental Protection Agency (US EPA) announces its intent to delete the ICG Iselin Railroad Yard Site (site) from the NPL, located in Jackson, Tennessee and requests public comment on this action. The NPL constitutes appendix B to part 300 of the National and Hazardous Substances Pollution Contingency Plan (NCP), which EPA promulgated pursuant to section 105 of the Comprehensive Environmental Response, Compensation, and Liability Act of 1980 (CERCLA) as amended. The EPA has determined that the site poses no significant threat to public health or the environment, as defined by CERCLA, and therefore, no further remedial measures pursuant to CERCLA is warranted.

We are publishing this rule without prior proposal because the EPA views this as a noncontroversial revision and anticipates no dissenting comments. A detailed rationale for this approval is set forth in the direct final rule. If no dissenting comments are received, no further activity is contemplated. If EPA receives dissenting comments, the direct final action will be withdrawn and all public comments received will be addressed in a subsequent final rule based on this proposed rule. The EPA will not institute a second comment period. Any parties interested in commenting should do so at this time.

DATES: Comments concerning this action must be received by December 10, 2001.

ADDRESSES: Comments may be mailed to Robert West, Remedial Project Manager, U.S. Environmental Protection Agency, Region 4, 61 Forsyth Street, S.W., Atlanta, GA 30303. Comprehensive information on this site is available through the public docket which is available for viewing at the site information repositories at the following locations: U.S. EPA Region 4, 61 Forsyth Street, SW., Atlanta, GA 30303; and and the Jackson-Madison County Library, 433 East Lafayette Jackson, TN 38305, (901) 423-0225.

FOR FURTHER INFORMATION CONTACT: Robert West, Remedial Project Manager, U.S. Environmental Protection Agency, Region 4, 61 Forsyth Street, SW., Atlanta, GA 30303, (404) 562-8806, Fax (404) 562-8788, west.robert@epa.gov.

SUPPLEMENTARY INFORMATION: For additional information, see the Direct Final Action which is located in the Rules section of this Federal Register.

Authority: 33 U.S.C. 1321 (c) (2); 42 U.S.C. 9601-9657;; E.O. 12777, 56 FR 54757, 3 CFR, 1991 Comp.; p.351; E.O. 12580, 52 FR 2923, 3 CFR, 1987 Comp.; p. 193.

Dated: September 10, 2001
A. Stanley Meiburg,
Acting Regional Administrator, Region 4.

[FR Doc. 01-27832 Filed 11-7-01; 8:45 am]

BILLING CODE 6560-50-P